DEPARTMENT OF HEALTH AND HUMAN SERVICES

Office of the National Coordinator (the Community); Announcement of Meeting

SUMMARY: This notice announces the second meeting of the American Health Information Community in accordance with the Federal Advisory Committee Act (Pub. L. No. 92-463, 5 U.S.C., App.) The American Health Information Community will advise the Secretary and recommend specific actions to achieve a common interoperability framework for health information technology (IT).

DATES: November 29, 2005 from 8:30 a.m. to 4 p.m.

ADDRESSES: Department of Health and Human Services' Hubert H. Humphrey building (200 Independence Ave., Southwest, Washington, DC 20201), conference room 800.

FOR FURTHER INFORMATION CONTACT: http://www.hhs.gov/healthit.

SUPPLEMENTARY INFORMATION: A Web cast of the second Community meeting will be available on the NIH Web site at: http://www.videocast.nih.gov/.

Dated: November 8, 2005.
Dana Haza,
Acting Director of the Office of Programs and Coordination, Office of the National Coordinator.

[FR Doc. 05-22564 Filed 11-14-05; 8:45am]

BILLING CODE 4150-24-M